DEPARTMENT OF THE INTERIOR

Bureau of Land Management

[(WY-060-1320-EL), WYW155132]

Notice of Intent To Prepare an Environmental Impact Statement for Coal Lease by Application in Campbell County, WY

AGENCY: Bureau of Land Management, Interior.

ACTION: Notice of intent.

SUMMARY: The Bureau of Land Management (BLM) has received a competitive coal lease application from Foundation Coal West, Inc., (Foundation) for a maintenance tract of Federal coal adjacent to the company's Eagle Butte Mine in Campbell County, Wyoming. A maintenance tract is a parcel of land containing coal reserves that can be leased to maintain production at an existing mine. This tract, which was applied for as a lease by application (LBA) under the provisions of 43 Code of Federal Regulations (CFR) 3425.1, is called the Eagle Butte West Tract and has been assigned case number WYW155132. Consistent with the National Environmental Policy Act (NEPA) regulations, BLM must prepare an environmental analysis prior to holding a competitive Federal coal lease sale. In accordance with the provisions of Section 102 (2)(C) of NEPA, BLM is announcing it will prepare an Environmental Impact Statement (EIS) for this lease application and is soliciting public comments regarding issues and resource information.

DATES: This notice initiates the EIS scoping process. The BLM can best use public input if comments and resource information are submitted by August 1, 2005. On May 17, 2005, the BLM will host a public scoping meeting at 7 p.m. at the Clarion Hotel and Convention Center, 2009 South Douglas Highway, Gillette, Wyoming. At the public scoping meeting the public is invited to submit comments and resource information, and identify issues or concerns to be considered in the LBA process. The BLM will announce future public meetings and other opportunities to submit comments on this project at least 15 days prior to the event. Announcements will be made through local news media and the Casper Field Office's Web site, which is: http://www.wy.blm.gov/cfo.

ADDRESSES: Please submit written comments or concerns to the BLM Casper Field Office, Attn: Nancy Doelger, 2987 Prospector Drive, Casper, Wyoming 82604. Written comments or resource information may also be hand-delivered to the BLM Casper Field Office or sent by facsimile to the attention of Nancy Doelger at 307-261-7587. Comments may be sent electronically to casper_wymail@blm.gov; please put Eagle Butte West Tract/Nancy Doelger in the subject line.

Members of the public may examine documents pertinent to this proposal by visiting the Casper Field Office during its business hours (7:45 a.m. to 4:30 p.m.), Monday through Friday, except holidays.

Your response is important and will be considered in the EIS process. If you do respond, we will keep you informed of the availability of environmental documents that address impacts that might occur from this proposal. Please note that comments and information submitted regarding this project including names, electronic mail addresses and street addresses of the respondents will be available for public review and disclosure at the Casper Field Office. Individuals may request confidentiality. If you wish to withhold your name, electronic mail address, or street address from public review or from disclosure under the Freedom of Information Act, you must state this prominently at the beginning of your written comment. Such requests will be honored to the extent allowed by law. All submissions from organizations or businesses, or from individuals identifying themselves as representatives or officials of organizations or businesses, will be made available for public inspection in their entirety.

FOR FURTHER INFORMATION CONTACT: Nancy Doelger or Mike Karbs, BLM Casper Field Office, 2987 Prospector Drive, Casper, Wyoming 82604. Ms. Doelger or Mr. Karbs may also be reached by telephone at 307-261-7600.

SUPPLEMENTARY INFORMATION: An application to lease the Federal coal on the Eagle Butte West Tract adjacent to the Eagle Butte Mine was filed on December 28, 2001, by RAG Coal West, Inc. Foundation purchased the Eagle Butte Mine from RAG Coal West, Inc., in August 2004. The Powder River Regional Coal Team reviewed this lease application at a public meeting held on May 30, 2002, in Casper, Wyoming, and recommended that BLM process it.

The applicant filed a request to modify the tract on October 16, 2003. As currently filed, the application includes approximately 243.2 million tons of in-place Federal coal underlying the following lands in Campbell County, Wyoming:

T. 51 N., R. 72 W., 6th P.M., Wyoming

Section 19: Lots 13, 14, 19, and 20;

Section 20: Lots 10 (S½), 11 (S½), and 12 through 15;

Section 29: Lots 1 (W½), 2 through 7, 8 (W½ and SE¼), and 9 through 16;

Section 30: Lots 5, 6, 11 through 14, 19 and 20.

Containing 1,397.64 acres more or less.

The surface estate overlying the Federal coal is privately owned.

Foundation proposes to mine the tract as a part of the Eagle Butte Mine. At the 2004 mining rate of 23 million tons per year, the coal included in the Eagle Butte West Tract would extend the life of the Eagle Butte Mine by approximately 10.5 years. In accordance with 43 CFR 3425.1-9, BLM will evaluate unleased Federal coal in and around the tract and may decide to add or subtract lands to avoid bypassing Federal coal or to increase potential competitive interest in the tract.

The Eagle Butte Mine is operating under approved mining permits from the Land Quality and Air Quality Divisions of the Wyoming Department of Environmental Quality.

The Office of Surface Mining Reclamation and Enforcement (OSM) will be a cooperating agency in the preparation of the EIS. If the Eagle Butte West Tract is leased to the applicant, the new lease must be incorporated into the existing mining and reclamation plan for the adjacent mine and the Secretary of the Interior must approve the revised Mineral Leasing Act (MLA) mining plan before the Federal coal in the tract can be mined. OSM is the Federal agency that would be responsible for recommending approval, approval with conditions, or disapproval of the revised MLA mining plan to the office of the Secretary of the Interior.

The BLM will provide interested parties the opportunity to submit comments or relevant information or both. This information will help BLM identify issues to be considered in preparing a draft EIS for the Eagle Butte West Tract. Specific issues that have been identified at this time include the presence of city and county facilities, including the Gillette Airport and the Rawhide Elementary School, and occupied residences in the vicinity of the tract. Issues that have been identified in analyzing the impacts of previous Federal coal leasing actions in the Wyoming PRB include the need for resolution of conflicts between existing and proposed oil and gas development and coal mining on the tract proposed for leasing; potential impacts to big game herds and hunting; potential impacts to sage grouse; potential impacts to listed threatened and endangered species; potential health impacts related to blasting operations conducted by the mines to remove overburden and coal; the need to consider the cumulative impacts of coal leasing decisions combined with other existing and proposed development in the Wyoming PRB; and potential site-specific and cumulative impacts on air and water quality.

Robert A. Bennett,
State Director.

[FR Doc. 05-6981 Filed 4-29-05; 8:45 am]

BILLING CODE 4310-22-P